DEPARTMENT OF HEALTH AND HUMAN SERVICES

Centers for Disease Control and Prevention

[30Day-13-13BU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Determining Causes of Sudden, Unexpected Infant Death: A National Survey of U.S. Medical Examiners and Coroners—New—National Center for Chronic Disease Prevention and Health Promotion (NCCDPHP), Centers for Disease Control and Prevention (CDC).

Background and Brief Description

To explore how medical examiners and coroners interpret and report sudden unexpected and unexplained infant deaths and the extent to which interpretation and reporting practices vary across the U.S., CDC's National Center on Chronic Disease Prevention and Health Promotion proposes to conduct a one-time mail survey. The proposed activity is part of CDC's mission, as described in Section 241 of the Public Health Service Act [42 U.S.C. 241].

Jurisdictions that are invited to participate in the survey will be selected with probability proportional to the number of SUID-related deaths that they reported in 2005-2009. Interviewers will telephone receptionists or operators in 800 medical examiners'/coroners' offices to verify the names and contact information for individuals who certify infant deaths. Paper surveys will then be distributed to approximately 720 coroners and 80 medical examiners by mail. Surveys will take about 30 minutes to complete and will contain questions about infant death interpretation and reporting practices and respondents' background and jurisdiction characteristics. We anticipate that approximately 80% of prospective respondents (576 coroners and 64 medical examiners) will return a completed survey. All survey responses will be maintained in a secure manner.

OMB approval is requested for one year. There are no costs to respondents other than their time. The total estimated burden hours are 387.

Estimated Annualized Burden Hours
Type of respondent | Form name | Number of respondents | Number of responses per respondent | Burden per response (in hr)
Jurisdiction Receptionist or Operator | Telephone screener | 800 | 1 | 5/60
Coroner | National Survey of Medical Examiners and Coroners | 576 | 1 | 30/60
Medical Examiner | National Survey of Medical Examiners and Coroners | 64 | 1 | 30/60

LeRoy Richardson,
Chief, Information Collection Review Office, Office of Scientific Integrity, Office of the Associate Director for Science, Office of the Director, Centers for Disease Control and Prevention.

[FR Doc. 2013-20642 Filed 8-22-13; 8:45 am]

BILLING CODE 4163-18-P